ENVIRONMENTAL PROTECTION AGENCY

[EPA-HQ-OMS-2022-0277; 9780-01-OMS]

Proposed Information Collection Request; Comment Request; Ethnicity, Race, Gender and Disability Self-Identification Form for Nominees Considered for Appointment on Federal Advisory Committees at the U.S. Environmental Protection Agency

AGENCY: Environmental Protection Agency (EPA).

ACTION: Notice.

SUMMARY: The Environmental Protection Agency (EPA) is planning to submit an information collection request (ICR), Ethnicity, Race, Gender and Disability Self-Identification Form for nominees considered for appointment on federal advisory committees at the Environmental Protection Agency (EPA ICR Number 2717.01, OMB Control Number 2030-NEW) to the Office of Management and Budget (OMB) for review and approval in accordance with the Paperwork Reduction Act. Before doing so, EPA is soliciting public comments on specific aspects of the proposed information collection as described below. This is a request for approval of a new collection. An agency may not conduct or sponsor and a person is not required to respond to a collection of information unless it displays a currently valid OMB control number.

DATES: Comments must be submitted on or before June 21, 2022.

ADDRESSES: Submit your comments, referencing Docket ID Number EPA-HQ-OMS-2022-0277; online using www.regulations.gov (our preferred method), by email to Docket_OMS@epa.gov or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: Gina Moore, Office of Resources and Business Operations, 3101A, Federal Advisory Committee Management Division, Environmental Protection Agency, 1200 Pennsylvania Ave. NW, Washington, DC 20460; telephone number: 202-566-0462; email address: moore.gina@epa.gov.

SUPPLEMENTARY INFORMATION: A notice initiating a 60-day public comment period for this action was published on March 2, 2022 (87 FR 11704). This notice extends the public comment period to allow for a 60-day comment period on supplemental documents that have been added to the docket since the Federal Register notice published on March 2, 2022. These supporting documents, which explain in detail the information that the EPA will be collecting, are available in the public docket for this ICR. The docket can be viewed online at www.regulations.gov or in person at the EPA Docket Center, WJC West, Room 3334, 1301 Constitution Ave., NW, Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: Agency officials developed the “Ethnicity, Race, Gender and Disability Self-Identification Form” to comply with Executive Order (14035): Diversity, Equity, Inclusion and Accessibility in the Federal Workforce, Section 5(e) that directs the U.S. Environmental Protection Agency to collect and analyze voluntarily self-reported demographic data regarding the membership of federal advisory committees to pursue opportunities to increase diversity, equity, inclusion, and accessibility. This information collection request will assist EPA when selecting members to EPA's scientific and technical federal advisory committees to ensure that members and future nominees reflect the diversity of the American people in terms of gender, race, ethnicity, geography, and other characteristics.

Form Number: EPA 5800-068.

Respondents/affected entities: Entities potentially affected by this action are approximately 200 candidates for membership on EPA's federal advisory committees. In an effort to ensure future nominees reflect the diversity of America, all nominees are encouraged to complete and submit EPA Form 5800-068 when applying for membership in accordance with Executive Order 14035 of June 25, 2021: Diversity, Equity, Inclusion, and Accessibility in the Federal Workforce.

Respondent's obligation to respond: Voluntary.

Estimated number of respondents: 200 (total).

Frequency of response: Annually.

Total estimated burden: 16.6 hours (per year). Burden is defined at 5 CFR 1320.03(b).

Total estimated cost: $0.

Changes in Estimates: There is no change in burden because this is a new information collection request.

Courtney Kerwin,
Director, Regulatory Support Division.

[FR Doc. 2022-08502 Filed 4-20-22; 8:45 am]

BILLING CODE 6560-50-P